INTERNATIONAL TRADE COMMISSION

[USITC SE-03-012]

Sunshine Act Meeting

Agency Holding the Meeting: International Trade Commission.

Time and Date: May 20, 2003, at 11 a.m.

Place: Room 101, 500 E Street, SW., Washington, DC 20436. Telephone: (202) 205-2000.

Status: Open to the public.

Matters to be Considered: 1. Agenda for future meetings: none.

2. Minutes.

3. Ratification list.

4. Inv. No. 731-TA-1010 (Final) (Lawn and Garden Steel Fence Posts from China)—briefing and vote. (The Commission is currently scheduled to transmit its determination and Commissioners' opinions to the Secretary of Commerce on or before June 2, 2003.)

5. Outstanding action jackets: none.

In accordance with Commission policy, subject matter listed above, not disposed of at the scheduled meeting, may be carried over to the agenda of the following meeting.

By order of the Commission.
Issued: May 13, 2003
Marilyn R. Abbott,
Secretary to the Commission.

[FR Doc. 03-12547 Filed 5-15-03; 10:40 am]

BILLING CODE 7020-02-P